DEPARTMENT OF LABOR

Employment and Training Administration

[TA-W-55,819, TA-W-55,819A, TA-W-55,819B, and TA-W-55,819C]

Coats American, Inc., Sevier Plant, Marion, NC, El Paso Distribution Center & Customer Service Center, El Paso, TX, Sparks Distribution Center, Sparks, NV, and Old Fort Transportation & Distribution Center, Old Fort, NC; Notice of Termination of Investigation

Pursuant to Section 221 of the Trade Act of 1974, as amended, an investigation was initiated on October 19, 2004 in response to a petition filed by a company official on behalf of workers at Coats American, Inc. located at the above named facilities in North Carolina, Texas and Nevada.

The petitioner has requested that the petition be withdrawn. Consequently, the investigation has been terminated.

Signed at Washington, DC, this 29th day of November 2004.
Richard Church,
Certifying Officer, Division of Trade Adjustment Assistance.

[FR Doc. 04-28570 Filed 12-29-04; 8:45 am]

BILLING CODE 4510-30-P